Proclamation 8572 of October 1, 2010

National Breast Cancer Awareness Month, 2010

By the President of the United States of America

A Proclamation

While considerable progress has been made in the fight against breast cancer, it remains the most frequently diagnosed type of non-skin cancer and the second leading cause of cancer deaths among women in our country. This year alone, over 200,000 Americans will be diagnosed and nearly 40,000 lives will be claimed. During National Breast Cancer Awareness Month, we reaffirm our commitment to supporting breast cancer research, and to educating all Americans about its risk factors, detection, and treatment. As we display pink ribbons on our lapels, offices, and storefronts, we also support those courageously fighting breast cancer and honor the lives lost to this devastating disease.

Thanks to earlier detection and better treatments, mortality rates for breast cancer have steadily decreased in the last decade. To advance the life-saving research that has breathed promise into countless lives, the National Institutes of Health, the Centers for Disease Control and Prevention, and the Department of Defense are investing hundreds of millions of dollars annually in breast cancer research and related programs. Through funding from the Recovery Act, the National Cancer Institute is also conducting and supporting research and training projects, as well as distributing health information, to help Americans with breast cancer and health care providers face this disease.

Knowing what may contribute to breast cancer is an important part of its prevention. Risk factors for breast cancer include family and personal history, radiation therapy to the chest for previous cancers, obesity, and certain genetic changes. Being cognizant of these possible risk factors, as well as maintaining a healthy body weight and balanced diet, exercising regularly, and getting regular screenings, may help lower the chances of developing breast cancer. I encourage all women and men to talk with their health care provider about their risks and what they can do to mitigate them, and to visit Cancer.gov to learn about the symptoms, diagnosis, and treatment of breast and other cancers.

Screenings and early detection are also essential components in the fight against breast cancer. For women ages 40 and over, regular mammograms and clinical breast exams by health care providers every one to two years are the most effective ways to find breast cancer early, when it may be easier to treat. Women at higher risk of breast cancer should discuss with their health care providers whether they need mammograms before age 40, as well as how often to have them. Regular mammograms, followed by timely treatment when breast cancer is diagnosed, can help improve the chances of surviving this disease.

In order to detect breast cancer early, we must ensure all women can access these important screenings. The Affordable Care Act, which I was proud to sign into law earlier this year, requires all new health insurance policies to cover recommended preventive services without any additional cost, including annual mammography screenings for women over age 40. The Affordable Care Act will also ensure that people who have been diagnosed with breast cancer cannot be excluded from coverage for a pre-existing condition or charged higher premiums.

During National Breast Cancer Awareness Month, we stand with our mothers, daughters, sisters, and friends, and we recognize all who have joined their loved ones in fighting their battle, as well as the advocates, researchers, and health care providers whose care and hard work gives hope to those living with breast cancer. By educating ourselves and supporting innovative research, we will improve the quality of life for all Americans affected by breast cancer and, one day, defeat this terrible disease.

NOW, THEREFORE, I, BARACK OBAMA, President of the United States of America, by virtue of the authority vested in me by the Constitution and the laws of the United States, do hereby proclaim October 2010 as National Breast Cancer Awareness Month. I encourage citizens, Government agencies, private businesses, nonprofit organizations, and all other interested groups to join in activities that will increase awareness of what Americans can do to prevent and control breast cancer.

IN WITNESS WHEREOF, I have hereunto set my hand this first day of October, in the year of our Lord two thousand ten, and of the Independence of the United States of America the two hundred and thirty-fifth.

[FR Doc. 2010-25572

Filed 10-7-10; 8:45 am]

Billing code 3195-W1-P